DEPARTMENT OF ENERGY

Office of Energy Efficiency and Renewable Energy

10 CFR Part 431

[Docket No. EERE-2007-BT-STD-0007]

RIN 1904-AB70

Energy Efficiency Program for Certain Commercial and Industrial Equipment: Public Meeting and Availability of the Framework Document for Small Electric Motors

AGENCY: Office of Energy Efficiency and Renewable Energy, Department of Energy.

ACTION: Notice of public meeting and availability of the Framework Document.

SUMMARY: The Department of Energy (DOE or Department) is initiating the rulemaking process to adopt new energy conservation standards for small electric motors. Accordingly, the Department will hold an informal public meeting to discuss and receive comments on issues it will address in this rulemaking proceeding. The Department also encourages written comments on these subjects. To inform stakeholders and facilitate this process, DOE has prepared a Framework Document, which is available at: http://www.eere.energy.gov/buildings/appliance_standards/.

DATES: The Department will hold a public meeting on Thursday, September 13, 2007 from 9 a.m. to 5 p.m. at DOE headquarters in Washington, DC. Any person requesting to speak at the public meeting should submit such request along with a signed original and an electronic copy of statements to be given at the meeting before 4 p.m., Thursday, August 30, 2007. Written comments are welcome, especially following the public meeting, and should be submitted by Friday, September 28, 2007.

ADDRESSES: The public meeting will be held at the U.S. Department of Energy, Forrestal Building, Room 1E-245, 1000 Independence Avenue, SW., Washington, DC 20585-0121. (Please note that foreign nationals participating in the public meeting are subject to advance security screening procedures. If a foreign national wishes to participate in the workshop, please inform DOE of this fact as soon as possible by contacting Ms. Brenda Edwards-Jones at (202) 586-2945, so that the necessary procedures can be completed.)

Stakeholders may submit comments, identified by docket number EERE-2007-BT-STD-0007 and/or Regulatory Identifier Number (RIN) 1904-AB70, by any of the following methods:

• Federal eRulemaking Portal: http://www.regulations.gov. Follow the instructions for submitting comments.

• E-mail: small_electric_motors_std.rulemaking@ee.doe.gov. Include docket number EERE-2007-BT-STD-0007 and/or RIN 1904-AB70 in the subject line of the message.

• Mail: Ms. Brenda Edwards-Jones, U.S. Department of Energy, Building Technologies Program, Mailstop EE-2J, Framework Document for Small Electric Motors, docket number EERE-2007-BT-STD-0007 and/or RIN 1904-AB70, 1000 Independence Avenue, SW., Washington, DC 20585-0121. Please submit one signed paper original.

• Hand Delivery/Courier: Ms. Brenda Edwards-Jones, U.S. Department of Energy, Building Technologies Program, Room 1J-018, 1000 Independence Avenue, SW., Washington, DC 20585-0121. Telephone: (202) 586-2945. Please submit one signed paper original.

Instructions: All submissions received must include the agency name and docket number or RIN for this rulemaking.

Docket: For access to the docket to read background documents, a copy of the transcript of the public meeting, or comments received, go to the U.S. Department of Energy, Forrestal Building, Room 1J-018 (Resource Room of the Building Technologies Program), 1000 Independence Avenue, SW., Washington, DC 20585-0121, (202) 586-9127, between 9 a.m. and 4 p.m., Monday through Friday, except Federal holidays. Please call Ms. Brenda Edwards-Jones at the above telephone number for additional information regarding visiting the Resource Room.

FOR FURTHER INFORMATION CONTACT: Antonio M. Bouza, U.S. Department of Energy, Office of Energy Efficiency and Renewable Energy, Building Technologies, EE-2J, 1000 Independence Avenue, SW., Washington, DC 20585-0121, (202) 586-586-4563. E-mail: Antonio.Bouza@ee.doe.gov; Francine Pinto, Esq., or Eric Stas, Esq., U.S. Department of Energy, Office of the General Counsel, GC-72, 1000 Independence Avenue, SW., Washington, DC 20585-0121, (202) 586-9507. E-mail: Francine.Pinto@hq.doe.gov or Eric.Stas@hq.doe.gov.

SUPPLEMENTARY INFORMATION: The Energy Policy and Conservation Act (EPCA) of 1975 (42 U.S.C. 6291-6309) established an energy conservation program for major household appliances. The National Energy Conservation Policy Act of 1978 (NECPA) amended EPCA to add Part C of Title III (42 U.S.C. 6311-6317), which established an energy conservation program for certain industrial equipment. The Energy Policy Act of 1992 (EPACT), Public Law 102-486, also amended EPCA, and included amendments that expanded Title III to include certain types of commercial equipment, including small electric motors. Specifically, EPACT amended section 346 of EPCA (42 U.S.C. 6317) to provide that the Secretary of Energy prescribe testing requirements and energy conservation standards for those small electric motors for which the Secretary determines that standards “would be technologically feasible and economically justified, and would result in significant energy savings.” (42 U.S.C. 6317(b)(1))

On July 10, 2006, the Secretary of Energy made a positive determination with respect to testing requirements and energy conservation standards for small electric motors. 71 FR 38799. As a result of DOE's determination analysis, the Secretary determined preliminarily that standards for small electric motors would be “technologically feasible and economically justified, and would result in significant energy savings.” DOE will determine whether and at what level to promulgate energy conservation standards for small electric motors based on in-depth consideration, with public participation, of the technical feasibility, economic justification, and energy savings of potential standards levels in the context of prescribing new or amended standards pursuant to section 325(o) and (p) of EPCA (42 U.S.C. 6295(o), (p)).

To begin the required rulemaking process, the Department prepared a Framework Document to present the issues and explain the analyses and process it anticipates using to set energy conservation standards for small electric motors. The focus of the public meeting will be to discuss the analyses and issues identified in various sections of the Framework Document. During the Department's presentation to stakeholders, the Department will discuss each item listed in the Framework Document as an issue for comment. The Department will also make a brief presentation on the rulemaking process for these products. The Department encourages those who wish to participate in the public meeting to obtain the Framework Document and be prepared to discuss its contents. However, public meeting participants need not limit their discussions to the topics in the Framework Document. A copy of the draft Framework Document is available at: http://www.eere.energy.gov/buildings/appliance_standards/. The Department is also interested in receiving views concerning other relevant issues that participants believe would affect energy conservation standards for these products. The Department also welcomes all interested parties, whether or not they participate in the public meeting, to submit in writing by Friday, September 28, 2007, comments and information on the matters addressed in the Framework Document and on other matters relevant to consideration of standards for these small electric motors.

The public meeting will be conducted in an informal, facilitated, conference style. There shall be no discussion of proprietary information, costs or prices, market shares, or other commercial matters regulated by the U.S. antitrust laws. A court reporter will be present to prepare a transcript of the meeting.

After the public meeting and the expiration of the period for submission of written statements, the Department will begin conducting the analyses as discussed at the public meeting and reviewing the comments received.

Anyone who would like to participate in the public meeting, receive meeting materials, or be added to the DOE mailing list to receive future notices and information regarding small electric motors, should contact Ms. Brenda Edwards-Jones at (202) 586-2945.

Issued in Washington, DC, on August 3, 2007.
Alexander A. Karsner,
Assistant Secretary, Energy Efficiency and Renewable Energy.

[FR Doc. E7-15692 Filed 8-9-07; 8:45 am]

BILLING CODE 6450-01-P